ENVIRONMENTAL PROTECTION AGENCY

[FRL-7511-9]

Clean Air Scientific Advisory Committee, Science Advisory Board: Clean Air Scientific Advisory Committee (CASAC) Ozone Review Panel; Request for Nominations

AGENCY: Environmental Protection Agency (EPA).

ACTION: Notice.

SUMMARY: The Clean Air Scientific Advisory Committee (CASAC) of the Environmental Protection Agency (EPA or Agency) is announcing the reconstitution of the Ozone Review Panel (Panel) and is hereby soliciting nominations for this Panel.

DATES: Nominations should be submitted by July 3, 2003.

ADDRESSES: Nominations should be submitted in electronic format through the Form for Nominating Individuals to Panels of the EPA Science Advisory Board provided on the SAB Web site. The form can be accessed through a link on the blue navigational bar on the SAB Web site, http://www.epa.gov/sab. To be considered, all nominations must include the information required on that form. Anyone who is unable to submit nominations via this form may contact Mr. Fred Butterfield, Designated Federal Officer (DFO), EPA Science Advisory Board Staff, at telephone/voice mail: (202) 564-4561; or via e-mail at: butterfield.fred@epa.gov.

FOR FURTHER INFORMATION CONTACT: Any member of the public wishing further information regarding this Request for Nominations may contact Mr. Fred Butterfield, DFO, as indicated above. General information concerning the CASAC or the EPA Science Advisory Board can be found at: http://www.epa.gov/sab.

SUPPLEMENTARY INFORMATION:

Summary

The Clean Air Scientific Advisory Committee is announcing the reconstitution of its Ozone Review Panel to conduct reviews of the criteria and national ambient air quality standards (NAAQS) for ozone. The CASAC is hereby soliciting nominations to establish the members of the new Panel. The Ozone Review Panel is intended to operate for two to five (nominally, three) years, with a separate charge to be issued to the Panel by the Agency for each review or project.

The CASAC, which comprises seven members appointed by the EPA Administrator, was established by section 109(d)(2) of the Clean Air Act (42 U.S.C. 7409) as an independent scientific advisory committee, in part to provide advice and recommendations related to the Agency's periodic reviews of the criteria and NAAQS required under sections 108 and 109 of the Act. To provide the appropriate range of expertise needed for the review of the criteria and standards for each pollutant for which NAAQS are established, a Panel of experts is typically formed by supplementing the expertise provided by the seven CASAC members themselves. As the Agency is now in the early stages of its review of the criteria and standards for ozone, the Ozone Review Panel is being reconstituted at this time. The CASAC, which is administratively located under the EPA Science Advisory Board, reports to the EPA Administrator. All seven statutory members of the CASAC will also serve as members of the CASAC Ozone Review Panel. Accordingly, once the CASAC Ozone Review Panel completes its deliberations on a given activity, its report will be transmitted directly to the Administrator.

The SAB was established by 42 U.S.C. 4365 to provide independent scientific and technical advice, consultation, and recommendations to the EPA Administrator on the technical basis for Agency positions and regulations. Both the CASAC and the SAB are Federal advisory committees chartered under the Federal Advisory Committee Act (FACA), as amended (5 U.S.C. App.). The CASAC Ozone Review Panel will comply with the provisions of FACA and all appropriate SAB procedural policies, including the process for panel formation described in the Overview of the Panel Formation Process at the Environmental Protection Agency Science Advisory Board, which can found at: http://www.epa.gov/sab/pdf/ec02010.pdf.

Nominator's Assessment of Expertise

When submitting nominations to the CASAC Ozone Review Panel, please explicitly indicate the specific areas of expertise the candidate could contribute. The CASAC requests nominees who are recognized, national-level experts in one or more of the following disciplines:

(a) Atmospheric Science. Expertise in physical/chemical properties of ozone and other photochemical oxidants, their precursor substances, and atmospheric processes involved in the formation, transport, and degradation of ozone and other photochemical oxidants in the atmosphere, including interaction with global climate and stratospheric ozone. Also, expertise in the evaluation of natural and man-made (anthropogenic) sources and emissions of precursors of tropospheric ozone and other photochemical oxidants, pertinent monitoring/measurement methods for such substances, and spatial/temporal trends in atmospheric concentrations of them.

(b) Exposure and Risk Assessment/Modeling. Expertise in measuring human population exposure to ozone and/or in modeling human exposure to ambient and indoor pollutants. Also, expertise in human health risk analysis modeling for ozone or other pollutants causing respiratory and/or other non-cancer health effects.

(c) Ecological Effects and Resource Valuation. Expertise in evaluation of: Patterns of exposure to ozone and/or other photochemical oxidants of ornamental and/or agricultural plants and/or natural ecosystems and their components; effects of ozone and other photochemical oxidants on natural ecosystems (especially terrestrial) and their components (both flora and fauna), ranging from biochemical/sub-cellular effects and identification of indicators of pathophysiological effects at the individual plant level, to effects on species and populations, on up to include impacts on increasingly more complex (e.g., landscape) levels of ecosystem organization. Also, expertise in (i) ecosystem risk assessment and (ii) ecological resource valuation/economics.

(d) Dosimetry. Expertise in conducting and/or evaluation of the dosimetry of animal and human subjects, including identification of factors determining differential patterns of inhalation and/or deposition/uptake in respiratory tract regions that may contribute to differential susceptibility of human population subgroups and animal-to-human dosimetry extrapolations.

(e) Toxicology. Expertise in conducting and/or evaluation of experimental laboratory animal studies of the effects of ozone and/or other photochemical oxidants on respiratory and non-respiratory (e.g., lung defense/other immune function mechanisms) endpoints.

(f) Controlled Human Exposure. Expertise in conducting and/or evaluation of controlled human exposure studies of the effects of such substances on healthy and compromised (having pertinent preexisting chronic disease, e.g., asthma) human adults and children, including medical doctors (M.D.) with experience in the clinical treatment of asthma.

(g) Epidemiology and Biostatistics. Expertise in epidemiological evaluation of the effects of exposures to ambient ozone and/or other major ambient air co-pollutants (e.g., particulate matter, sulfur dioxide, nitrogen dioxide, carbon monoxide) on human population groups, including effects on mortality and/or morbidity (e.g., respiratory symptoms, lung function decrements, asthma medication use, respiratory-related hospital admissions) endpoints. Also, expertise in associated biostatistics and/or health risk analysis (including Bayesian statistical approaches).

Process and Deadline for Submitting Nominations

Any interested person or organization may nominate qualified individuals to add expertise to the Panel in the areas of expertise described above. Nominations should be submitted in electronic format through the Form for Nominating Individuals to Panels of the EPA Science Advisory Board provided on the SAB Web site. The form can be accessed through a link on the blue navigational bar on the SAB Web site, http://www.epa.gov/sab. To be considered, all nominations must include the information required on that form.

Anyone who is unable to submit nominations using this form, and any questions concerning any aspects of the nomination process may contact Mr. Fred Butterfield, DFO, as indicated above in this Federal Register notice. Nominations should be submitted in time to arrive no later than July 3, 2003.

To be considered, all nominations must include: (a) A current biography, curriculum vitae (C.V.) or resume, which provides the nominee's background, experience and qualifications for the Panel; and (b) a brief biographical sketch (“biosketch”). The biosketch should be no longer than one page and must contain the following information for the nominee:

(i) Current professional affiliations and positions held;

(ii) Area(s) of expertise, and research activities and interests;

(iii) Leadership positions in national associations or professional publications or other significant distinctions;

(iv) Educational background, especially advanced degrees, including when and from which institutions these were granted;

(v) Service on other advisory committees, professional societies, especially those associated with issues under discussion in this review; and

(vi) Sources of recent (i.e., within the preceding two years) grant and/or other contract support, from government, industry, academia, etc., including the topic area of the funded activity.

Please note that even if there is no responsive information (e.g., no recent grant or contract funding), this must be indicated on the biosketch (by “N/A” or “None”). Incomplete biosketches will result in nomination packages not being accepted.

The EPA Science Advisory Board will acknowledge receipt of the nomination and inform nominators of the panel selected. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will be requested to provide information, analysis or other documentation on nominees that the SAB Staff should consider in evaluating candidates for the CASAC Ozone Review Panel.

For the EPA SAB, a balanced review panel is characterized by inclusion of candidates who possess the necessary domains of knowledge, the relevant scientific perspectives (which, among other factors, can be influenced by work history and affiliation), and the collective breadth of experience to adequately address the charge. Public responses to the Short List candidates will be considered in the selection of the Panel, along with information provided by candidates and information gathered by EPA SAB Staff independently on the background of each candidate (e.g., financial disclosure information and computer searches to evaluate a nominee's prior involvement with the topic under review). Specific criteria to be used in evaluating an individual Panel member include: (a) Scientific and/or technical expertise, knowledge, and experience (primary factors); (b) availability and willingness to serve; (c) absence of financial conflicts of interest; (d) scientific credibility and impartiality; and (e) skills working in committees, subcommittees and advisory panels. Ozone Review Panel members will likely be asked to attend two to three public, face-to-face meetings and several public teleconference meetings per year over the anticipated two-to five-year course of the Panel's activity.

Short List candidates will also be required to fill-out the “Confidential Financial Disclosure Form for Special Government Employees Serving on Federal Advisory Committees at the U.S. Environmental Protection Agency” (EPA Form 3110-48). This confidential form, which is used by EPA SAB Members and Consultants, allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Dated: June 5, 2003.
Vanessa T. Vu,
Director, EPA Science Advisory Board Staff Office.

[FR Doc. 03-14877 Filed 6-11-03; 8:45 am]

BILLING CODE 6560-50-P